DEPARTMENT OF TRANSPORTATION

Federal Aviation Administration

Approval Of Noise Compatibility Program for Reid-Hillview Airport, San Jose, CA

AGENCY: Federal Aviation Administration, DOT.

ACTION: Notice.

SUMMARY: The Federal Aviation Administration (FAA) announces its findings on the noise compatibility program submitted by Santa Clara County, California under the provisions of Title I of the Aviation Safety and Noise Abatement Act, as amended, (Public Law 93-193) (hereinafter referred to as “the Act”) and 14 CFR Part 150. These findings are made in recognition of the description of Federal and nonfederal responsibilities in Senate Report No. 96-52 (1980). On January 13, 2004, the FAA determined that the noise exposure maps submitted by Santa Clara County under Part 150 were in compliance with applicable requirements.

EFFECTIVE DATE: The effective date of the FAA's approval of the Noise Compatibility Program for Reid-Hillview Airport is November 3, 2004.

FOR FURTHER INFORMATION CONTACT: Joseph Rodriguez, Supervisor, Planning Section, San Francisco Airports District Office, Western-Pacific Region, Federal Aviation Administration, 831 Mitten Road, Burlingame, California, 94010. Telephone: (650) 876-2778, extension 610. Documents reflecting this FAA action may be reviewed at this same location.

SUPPLEMENTARY INFORMATION: This notice announces that the FAA has given its overall approval to the Noise Compatibility Program for Reid-Hillview Airport (RHV), effective November 3, 2004. Under section 104(a) of the Aviation Safety and Noise Abatement Act of 1979, as amended (herein after referred to as the “Act”) [recodified as 49 U.S.C. 47504], an airport operator who has previously submitted a Noise Exposure Map may submit to the FAA a Noise Compatibility Program which sets forth the measures taken or proposed by the airport operator for the reduction of existing non-compatible land uses and prevention of additional non-compatible land uses within the area covered by the Noise Exposure Maps. The Act requires such programs to be developed in consultation with interested and affected parties including local communities, government agencies, airport users, and FAA personnel.

Each airport noise compatibility program developed in accordance with Federal Aviation Regulations (FAR) Part 150 is a local program, not a Federal program. The FAA does not substitute its judgment for that of the airport proprietor with respect to which measures should be recommended for action. The FAA's approval or disapproval of FAR Part 150 program recommendations is measured according to the standards expressed in Part 150 and the Act and is limited to the following determinations:

a. The Noise Compatibility Program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR Part 150, section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA under the Airport and Airway Improvement Act of 1982, as amended. Where federal funding is sought, requests for project grants must be submitted to the FAA Airports District Office in Burlingame, California.

The Santa Clara County, California submitted to the FAA on July 16, 2002 the Noise Exposure Maps, descriptions, and other documentation produced during the noise compatibility planning study conducted from December 2000 through September 2002. The Reid-Hillview Airport Noise Exposure Maps were determined by FAA to be in compliance with applicable requirements on January 13, 2004. Notice of this determination was published in the Federal Register on February 3, 2004.

The Reid-Hillview Airport study contains a proposed noise compatibility program comprised of actions designed for phased implementation by airport management and adjacent jurisdictions from 2002 to beyond the year 2007. It was requested that the FAA evaluate and approve this material as a Noise Compatibility Program as described in 49 USC 47504 (formerly Section 104(b) of the Act). The FAA began its review of the program on May 7, 2004, and was required by a provision of the Act to approve or disapprove the program within 180 days (other than the use of new or modified flight procedures for noise control). Failure to approve or disapprove such program within the 180-day period shall be deemed to be an approval of such program.

The submitted program contained 33 proposed actions for noise abatement, noise mitigation, land use planning and program management on and off the airport. The FAA completed its review and determined that the procedural and substantive requirements of the Act and FAR Part 150 have been satisfied. The overall program was approved, by the Associate Administrator for Airports, effective November 3, 2004.

Outright approval was granted for 20 of the specific program measures. The approved measures included such items as: Establish a voluntary measure that recommends a preferential Runway use-arrivals on Runway 31L & departures on Runway 31R; Encourage use of minimum power settings on departure; Encourage standard glide slope arrival procedures to minimize power on arrival; Create new engine run-up area for twin-engine aircraft (designated at the compass rose as the site for maintenance run-ups); Implement a fair disclosure policy to work with the California Department of Real Estate to enhance the public notice of airport nose level information during residential sales transactions; Implement policy guidance for amendments in the city of San Jose 2020 General Plan to incorporate recommendations for preventing or mitigating unwanted noise and incorporating land use recommendations of the [Airport Land use Commission] ALUC Plan; Soundproofing existing development through a noise insulation program to ensure acceptable interior noise levels for single-family residences within the 2002 CNEL 65 dB(A) and greater contours; Implement Planning commission review policy guidance for consideration of all types of proposed development within the 2002 CNEL 60 dB(A) and greater contour; County Airport Administration to provide an airport noise impact boundary identification as means to monitor new land use proposals and ensure the [Airport Land Use Plan] ALUP is enforced; Encourage pilots to “Fly Friendly”; Encourage flight training schools to train pilots to “Fly Friendly”; Continually publicize RHV complaint Hotline; Install noise monitors in the RHV environs to measure and compare unusual or high level noise aircraft events with voice recorder system; Install a radar collection system to match aircraft noise events to radar tracks; Establish an Airport/Airport user/Community Noise committee after noise monitor and radar collection system are in place to discuss issues on a quarterly basis; Create a position at RHV to focus on noise abatement and compliance programs and to investigate noise complaints; Update the RHV Part 150 Study NEM and NCP within five years of FAA Approval; Update and distribute the pilot noise handout with the FAA approved noise abatement measures; Revise the noise abatement signs to reflect the FAA Approved noise abatement measures; Maintain information about RHV's noise abatement program on the County's Web site.

The FAA has approved in part and disapproved in part, the following two land use management elements for the purposes of FAR Part 150: A County purchase assurance program that guarantees to noise-impacted property owners the County would provide opportunities for noise sensitive residences to relocate while maintaining the stability of the neighborhood; and Implement public land use development criteria to provide policy guidance for development of public uses within the 2002 CNEL 60dB(A) and greater contours. The FAA has approved in part for study and disapproved in part for construction, pending submission of additional information to demonstrate a noise benefit, one land use management element. The partial approval is limited to evaluation of study information of the noise benefit of the construction of sound buffers/barriers to provide noise level reduction for residential areas immediately adjacent to Reid-Hillview Airport.

The FAA disapproved 9 of the specific program measures for the purposes of Part 150. The disapproved measures included such items as: Voluntary limitation on aircraft departures to specific times; Voluntary limitation on aircraft touch-and-go operations to specific days and times; Prohibit intersection departures; Restrict Jet Operations to FAR Part 36 Stage 3 jets; Prohibit formation arrivals and departures; Prohibit simulated emergencies; Prohibit low-level fly-bys except for emergency requirements; Encourage pilots to modify aircraft to decrease noise emissions; Soundproofing existing single-family development within the 2002 CNEL 60-65 dB(A) contour area.

The FAA has taken no action on one noise abatement measure for the purposes of Part 150: Revise flight track for aircraft departing Runway 31R (modify the Quiet One departure flight track) measure. The measure relates to flight procedures under 49 U.S.C. 47504(b) and will require additional documentation to make a determination. Additional analysis and communication between the airport operator, the FAA Western-Pacific Air Traffic Division, and the local Airport Traffic Control Tower management is required.

These determinations are set forth in detail in the Record of Approval signed by the Associate Administrator for Airports on November 3, 2004. The Record of Approval, as well as other evaluation materials and the documents comprising the submittal, are available for review at the FAA office listed above and at the administrative offices of the Santa Clara County. The Record of Approval also will be available on-line at: http://www.faa.gov/arp/environmental/14cfr150/index14.cfm.

Issued in Hawthorne, California on December 8, 2004.
Mia Paredes Ratcliff,
Acting Manager, Airports Division, Western-Pacific Region, AWP-600.

[FR Doc. 04-27823 Filed 12-20-04; 8:45 am]

BILLING CODE 4910-13-M